DEPARTMENT OF LABOR

Employment and Training Administration

[TA-W-42,315]

Alcatel USA Marketing, Inc., Voice Network Division (VND), Wireless Switching Group, EMX 5000 Product Group, Plano, TX; Notice of Negative Determination Regarding Application for Reconsideration

By application received on April 3, 2003, a petitioner requested administrative reconsideration of the Department's negative determination regarding eligibility for workers and former workers of the subject firm to apply for Trade Adjustment Assistance (TAA). The denial notice applicable to workers of Alcatel USA Marketing, Inc., Voice Network Division (VND), Wireless Switching Group, EMX 5000 Product Group, Plano, Texas was signed on March 7, 2003, and published in the Federal Register on March 26, 2003 (67 FR 14706).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at Alcatel USA Marketing, Inc., Voice Network Division (VND), Wireless Switching Group, EMX 5000 Product Group, Plano, Texas engaged in activities related to software and hardware support. The petition was denied because the petitioning workers did not produce an article within the meaning of section 222(3) of the Act.

The petitioner alleges the software and hardware support at Alcatel USA Marketing, Inc., Voice Network Division (VND), Wireless Switching Group, EMX 5000 Product Group, Plano, Texas is an “integral part of the product” made for the customer.

An investigation of this matter, including contact with the company, revealed that a very small portion of the services supplied involve hardware (modifications) and that all of the software support provided is electronically generated to the customer. Electronically generated material does not constitute production within the meaning of Section 222 of the Trade Act.

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC, this 29th day of April, 2003.
Elliott S. Kushner,
Certifying Officer, Division of Trade Adjustment Assistance.

[FR Doc. 03-11543 Filed 5-8-03; 8:45 am]

BILLING CODE 4510-30-P